DEPARTMENT OF ENERGY

National Petroleum Council

AGENCY: Office of Fossil Energy, Department of Energy.

ACTION: Notice of Renewal.

SUMMARY: Pursuant to Section 14(a)(2)(A) of the Federal Advisory Committee Act and (Pub. L. 92-463), and in accordance with Title 41, Code of Federal Regulations, Section 102.365(a), and following consultation with the Committee Management Secretariat, General Services Administration, notice is hereby given that the National Petroleum Council has been renewed for a two-year period, beginning January 12, 2012. The Council will provide advice and recommendations to the Secretary of Energy on matters relating to oil and natural gas, and the oil and natural gas industries.

Additionally, the renewal of the Council has been determined to be essential to the conduct of the Department's business and to be in the public interest in connection with the performance of duties imposed upon the Department of Energy by law and agreement. The Council will continue to operate in accordance with the provisions of the Federal Advisory Committee Act and the rules and regulations in implementation of that Act.

FOR FURTHER INFORMATION CONTACT: Ms. Nancy Johnson at (202) 586-6458.

Issued at Washington, DC, on January 12, 2012.
Carol A. Matthews,
Committee Management Officer.

[FR Doc. 2012-950 Filed 1-18-12; 8:45 am]

BILLING CODE 6450-01-P